DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the National Security Education Board (“the Board”).

FOR FURTHER INFORMATION CONTACT: Jim Freeman, Advisory Committee Management Officer for the Department of Defense, 703-692-5952.

SUPPLEMENTARY INFORMATION: This committee's charter is being renewed pursuant to 50 U.S.C. 1903, and in accordance with the Federal Advisory Committee Act (FACA) of 1972 (5 U.S.C., Appendix, as amended) and 41 CFR 102-3.50(a), established the Board.The Board is a statutory Federal advisory committee that provides independent advice and recommendations to the Secretary of Defense on developing the national capacity to educate United States citizens to understand foreign cultures, strengthen United States economic competitiveness, and enhance international cooperation and security. The Board, pursuant to 50 U.S.C. 1930(d) and consistent with chapter 37 of 50 U.S.C., shall perform the following:

(a.) Develop criteria for awarding scholarships, fellowships, and grants, including an order of priority in such awards that favors individuals expressing an interest in national security issues or pursuing a career in a national security position.

(b.) Provide for wide dissemination of information regarding the activities under the statute.

(c.) Establish qualifications for students desiring scholarships or fellowships, and institutions of higher education desiring grants. In case of students desiring a scholarship or fellowship, a requirement that the student have a demonstrated commitment to the study of the discipline for which the scholarship or fellowship is to be awarded.

(d.) After taking into account the annual analyses of trends in language, international, area, and counter-proliferations studies under 50 U.S.C. 1906(b)(1), make recommendations to the Secretary of Defense regarding:

(i.) Which countries are not emphasized in other U.S. study abroad programs, such as countries in which few U.S. students are studying and countries which are of importance to the national security interests of the United States and are, therefore, critical countries for the purpose of 50 U.S.C. 1902(a)(1)(A);

(ii.) Which areas within the disciplines described in 50 U.S.C. 1902(1)(B) relating to the national security interests of the United States are areas of study in which United States students are deficient in learning and are, therefore, critical areas within those disciplines for the purposes of that section;

(iii.) Which areas within the disciplines described in 50 U.S.C. 1902(a)(1)(C) are areas in which United States students, educators, and Government employees are deficient in learning and in which insubstantial numbers of United States institutions of higher education provide training and are, therefore, critical areas within those disciplines for the purposes of that section;

(iv.) How students desiring scholarships or fellowships can be encouraged to work for an agency or office of the Federal Government involved in national security affairs or national security policy upon completion of their education; and

(v.) Which foreign languages are critical to the national security interests of the United States for purposes of 50 U.S.C. 1902(a)(1)(D) (relating to grants for the National Flagship Language Initiative) and 50 U.S.C. 1902(a)(1)(E) (relating to the scholarship program for advanced English language studies by heritage community citizens).

(e.) Encourage application for fellowships from graduate students having an educational background in any academic discipline, particularly in the areas of science or technology.

(f.) Provide the Secretary of Defense with a list of scholarship recipients and fellowship recipients biennially, including an assessment of their foreign area and language skills, who are available to work in a national security position.

(g.) Provide the Secretary of Defense a report fully describing the foreign area and language skills obtained by the recipient as a result of the assistance, not later than 30 days after a scholarship or fellowship recipient completes the study or education for which assistance was provided under the Program.

(h.) Review the administration of the National Security Scholarships, Fellowships, and Grants Program.

(i.) To the extent provided by the Secretary of Defense, oversee and coordinate the activities of the National Language Service Corps (NLSC) under 50 U.S.C. 1913, including:

(i.) Assessing on a periodic basis whether the NLSC is addressing the needs identified by the heads of departments and agencies of the Federal Government for personnel with skills in various foreign languages;

(ii.) Recommending plans for the NLSC to address foreign language shortfalls and requirements of the departments and agencies of the Federal Government;

(iii.) Recommending effective ways to increase public awareness of the need for foreign languages skills and career paths in the Federal Government that use those skills; and

(iv.) Overseeing the NLSC efforts to work with Executive agencies and State and Local governments to respond to interagency plans and agreements to address overall foreign language shortfalls and to utilize personnel to address the various types of crises that warrant foreign language skills.

The Board reports to the Secretary of Defense. The Secretary of Defense, pursuant to 50 U.S.C. 1906, shall submit to the President and to the Congressional intelligence committees an annual report of the conduct of the National Security Scholarships, Fellowships and Grants Program, which contains, at a minimum, the content outlined in 50 U.S.C. 1906(b). In preparation of this annual report, the Secretary of Defense shall consult with the members of the Board, who shall each submit to the Secretary, as a minimum, an assessment of hiring needs in the areas of language and area studies, and projection of the deficiencies in such areas. The Secretary shall include all assessments in the annual report.

The Department of Defense (DoD), through the Under Secretary of Defense for Personnel and Readiness (USD(P&R)), provides support, as deemed necessary, for the Board's performance and functions and ensures compliance with the requirements of the FACA, the Government in the Sunshine Act of 1976 (5 U.S.C. 552b, as amended) (“the Sunshine Act”), governing Federal statutes and regulations, and established DoD policies and procedures. Under the provisions of 50 U.S.C. 1903(b), the Board is composed of 14 members:

(a.) The following individuals or the representatives of such individuals:

(i.) The Secretary of Defense, who shall serve as the Chairman of the Board.

(ii.) The Secretary of Education.

(iii.) The Secretary of State.

(iv.) The Secretary of Commerce.

(v.) The Secretary of Homeland Security.

(vi.) The Secretary of Energy.

(vii.) The Director of the National Intelligence.

(viii.) The Chairperson of the National Endowment for the Humanities.

(b.) Six individuals appointed by the President, who shall be experts in the fields of international, language, area, and counter-proliferation studies education and who may not be officers or employees of the Federal Government.

Members of the Board appointed by the President shall be appointed for a period specified by the President at the time of their appointment, but not to exceed four years. Consistent with 50 U.S.C. 1903, the Secretary of Defense designates the USD(P&R) as the Chairperson of the Board. If the USD(P&R) is unavailable to chair a specific session of the Board, then the Assistant Secretary of Defense for Personnel and Force Management shall perform the functions of the Chairperson of the Board while the USD(P&R) is unavailable. The authority to chair the Board may not be further delegated.

Board members, who are not full-time or permanent part-time Federal officers or employees, will be appointed as experts or consultants pursuant to 5 U.S.C. 3109 to serve as special government employee (SGE) members. Board members who are full-time or permanent part-time Federal officers or employees shall be appointed pursuant to 41 CFR 102-3.130(a) to serve as regular government employee (RGE) members. Each member of the Board is appointed to provide advice on behalf of the Government on the basis of his or her best judgment without representing any particular point of view and in a manner that is free from conflict of interest. Pursuant to 50 U.S.C. 1903(c), individuals appointed by the President shall receive no compensation for service on the Board. With the exception of reimbursement of official Board-related travel and per diem, Board members shall serve without compensation.

The Department, when necessary and consistent with the Board's mission and DoD policies and procedures, may establish subcommittees, task forces, or working groups to support the Board. Establishment of subcommittees will be based upon a written determination, to include terms of reference, by the Secretary of Defense, the Deputy Secretary of Defense, or USD(P&R), as the Board's sponsor.

Such subcommittees shall not work independently of the Board and shall report all of their recommendations and advice solely to the Board for full and open deliberation and discussion. Subcommittees, task forces, or working groups have no authority to make decisions and recommendations, verbally or in writing, on behalf of the Board, directly to the DoD or any Federal officers or employees.

The Secretary of Defense or the Deputy Secretary of Defense will appoint subcommittee members to a term of service of one-to-four years, with annual renewals, even if the member in question is already a member of the Board.

Subcommittee members, if not full-time or permanent part-time Federal employees, will be appointed as experts or consultants pursuant to 5 U.S.C. 3109, to serve as SGE members. Those individuals who are full-time or permanent part-time Federal officers or employees shall be appointed, pursuant to 41 CFR 102-3.130(a), to serve as RGE members. With the exception of reimbursement of official Board-related travel and per diem, subcommittee members shall serve without compensation.

All subcommittees operate under the provisions of FACA, the Sunshine Act, governing Federal statutes and regulations, and governing DoD policies and procedures. The Board's Designated Federal Officer (DFO) shall be a full-time or permanent part-time DoD employee appointed in accordance with governing DoD policies and procedures. The Board's DFO is required to be in attendance at all meetings of the Board and its subcommittees for the entire duration of each and every meeting. However, in the absence of the Board's DFO, a properly approved Alternate DFO, duly appointed to the Board according to established DoD policies and procedures, shall attend the entire duration of all meetings of the Board and its subcommittees.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to National Security Education Board membership about the Board's mission and functions. Written statements may be submitted at any time or in response to the stated agenda of planned meeting of the National Security Education Board.

All written statements shall be submitted to the DFO for the National Security Education Board, and this individual will ensure that the written statements are provided to the membership for their consideration. Contact information for the National Security Education Board DFO can be obtained from the GSA's FACA Database— http://www.facadatabase.gov/.

The DFO, pursuant to 41 CFR 102-3.150, will announce planned meetings of the National Security Education Board. The DFO, at that time, may provide additional guidance on the submission of written statements that are in response to the stated agenda for the planned meeting in question.

Dated: March 4, 2015.
Aaron Siegel,
Alternate OSD Federal Register Liaison Officer, Department of Defense.

[FR Doc. 2015-05499 Filed 3-9-15; 8:45 am]

BILLING CODE 5001-06-P